DEPARTMENT OF AGRICULTURE

Animal and Plant Health Inspection Service

[Docket No. APHIS-2014-0014]

Notice of Decision To Allow Interstate Movement of Allium spp. Leaves From Hawaii Into the Continental United States

AGENCY: Animal and Plant Health Inspection Service, USDA.

ACTION: Notice.

SUMMARY: We are advising the public of our decision to allow the interstate movement of Allium spp. leaves from Hawaii into the continental United States. Based on the findings of a pest risk analysis, which we made available to the public to review and comment through a previous notice, we believe that the application of one or more phytosanitary measures will be sufficient to mitigate the risks of introducing or disseminating plant pests or noxious weeds via the interstate movement of Allium spp. leaves from Hawaii to the continental United States.

DATES: Effective Date: October 1, 2014.

FOR FURTHER INFORMATION CONTACT: Mr. David Lamb, Senior Regulatory Policy Specialist, PPQ, APHIS, 4700 River Road Unit 133, Riverdale, MD 20737-1231; (301) 851-2103.

SUPPLEMENTARY INFORMATION: Under the regulations in “Subpart—Regulated Articles From Hawaii and the Territories” (7 CFR 318.13-1 through 318.13-26, referred to below as the regulations), the Animal and Plant Health Inspection Service (APHIS) of the U.S. Department of Agriculture prohibits or restricts the interstate movement of fruits and vegetables from Hawaii, Puerto Rico, the U.S. Virgin Islands, Guam, and the Commonwealth of the Northern Mariana Islands to the continental United States to prevent the spread of plant pests and noxious weeds that occur in Hawaii and the territories.

Section 318.13-4 contains a performance-based process for approving the interstate movement of commodities that, based on the findings of a pest risk analysis, can be safely moved subject to one or more of the designated phytosanitary measures listed in paragraph (b) of that section. Under that process, APHIS publishes a notice in the Federal Register announcing the availability of the pest risk analysis that evaluates the risks associated with the interstate movement of a particular fruit or vegetable. Following the close of the 60-day comment period, APHIS may begin allowing the interstate movement of the fruit or vegetable subject to the identified designated measures if: (1) No comments were received on the pest risk analysis; (2) the comments on the pest risk analysis revealed that no changes to the pest risk analysis were necessary; or (3) changes to the pest risk analysis were made in response to public comments, but the changes did not affect the overall conclusions of the analysis and the Administrator's determination of risk.

In accordance with that process, we published a notice ¹ in the Federal Register on May 2, 2014 (79 FR 25095-25096, Docket No. APHIS-2014-0014), in which we announced the availability, for review and comment, of a pest risk analysis (PRA) that evaluates the risks associated with the interstate movement of Allium spp. from Hawaii into the continental United States. Based on the PRA, we prepared a risk management document (RMD) to identify phytosanitary measures that could be applied to the commodity to mitigate the pest risk.

¹ To view the notice, PRA, RMD, and comments we received, go to http://www.regulations.gov/#!docketDetail;D=APHIS-2014-0014.

We solicited comments on the notice, PRA and RMD for 60 days ending on July 1, 2014. We received three comments by that date from a private citizen, a State department of agriculture, and an organization of State plant protection agencies.

Two commenters raised concerns that no production, harvest, or post-harvest procedures were specified in the RMD for the two lepidopteran pests (Acrolepiopsis sapponensis and Spodoptera litura) and one thrips (Scirtothrips dorsalis) identified in the PRA.

We acknowledge that there are no specific harvest or post-harvest mitigation measures detailed in the RMD for those pests; however, evidence of these three insect pests can easily be detected during the required inspection process. In addition, the RMD states that standard commercial practices related to field sanitation must be used to discard infested leaves. If a thrip, identified as S. dorsalis, is found by an inspector during the required biometric sampling, then the entire consignment would be prohibited from being moved into the continental United States unless it is treated with an APHIS-approved treatment in Hawaii.

One commenter raised concerns about a nematode, Ditylenchus dipsaci, that was not identified as a plant pest in the PRA.

The nematode was analyzed and included within the appendix of the PRA, but no action is required against the nematode because the nematode is associated with the roots of the plant and is not expected to follow the pathway and become established via non-propagative material.

Therefore, in accordance with § 318.13-4, we are announcing our decision to begin allowing the interstate movement of Allium spp. leaves from Hawaii into the continental United States subject to the following phytosanitary measures:

• Allium spp. leaves are moved as commercial consignments only.

• A biometric sample of leaves of Allium spp. must be inspected for quarantine pests following any post-harvest processing. If quarantine pests are found, the entire consignment will be prohibited from movement into the continental United States unless it is treated with an approved quarantine treatment monitored by APHIS.

These conditions will be listed in the Hawaii Fruits and Vegetables Manual (available at http://www.aphis.usda.gov/import_export/plants/manuals/ports/downloads/hawaii.pdf). In addition to those specific measures, Allium spp. from Hawaii will be subject to the general requirements listed in § 318.13-3 that are applicable to the interstate movement of all fruits and vegetables from Hawaii.

Authority: 7 U.S.C. 7701-7772 and 7781-7786; 7 CFR 2.22, 2.80, and 371.3.

Done in Washington, DC, this 26th day of September 2014.
Kevin Shea,
Administrator, Animal and Plant Health Inspection Service.

[FR Doc. 2014-23418 Filed 9-30-14; 8:45 am]

BILLING CODE 3410-34-P